FARM CREDIT ADMINISTRATION

Privacy Act of 1974; System of Records

AGENCY: Farm Credit Administration.

ACTION: Notice of a Modified System of Records.

SUMMARY: Pursuant to the provisions of the Privacy Act of 1974, notice is hereby given that the Farm Credit Administration (FCA or Agency) is amending an existing system of records, FCA-9—Personnel Security Files—FCA. The Personnel Security Files—FCA system is used to records to determine suitability for employment and to issue a clearance. The Agency is updating the notice to reflect changes to the categories of individuals, to include more details, and make administrative updates, as well as non-substantive changes, to conform to the SORN template requirements prescribed in the Office of Management and Budget (OMB) Circular No. A-108.

DATES: You may send written comments on or before September 2, 2020. FCA filed an amended System Report with Congress and the Office of Management and Budget on May 5, 2020. This notice will become effective without further publication on September 14, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to. . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4020, TTY (703) 883-4019.

SUPPLEMENTARY INFORMATION: This publication satisfies the requirement of the Privacy Act of 1974 that agencies publish a system of records notice in the Federal Register when there is a revision, change, or addition to the system of records. The substantive changes and modifications to the currently published version of FCA-9—Personnel Security Files—FCA include:

1. Identifying the records in the system as unclassified.

2. Updating the system location to reflect the system's current location.

3. Updating the system managers to reflect the system's current owner.

4. Expanding and clarifying the categories of records and individuals to ensure they are consistent with the intended purpose.

5. Expanding the record source categories to account for legacy records received from the Office of Personnel Management's National Background Investigations Bureau (NBIB) and the Department of Defense's (DoD) Defense Counterintelligence Security Agency (DCSA), which assumed investigation responsibilities from OPM in October 2019.

6. Expanding and clarifying how records may be stored and retrieved.

7. Revising the retention and disposal section to reflect updated guidance from the National Archives and Records Administration.

8. Revising the safeguards section to reflect updated cybersecurity guidance and practices.

Additionally, non-substantive changes have been made to the notice to align with the latest guidance from OMB.

The amended system of records is: FCA-9—Personnel Security Files—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

System Name and Number:

FCA-9—Personnel Security Files—FCA.

Security Classification:

Unclassified.

System Location:

Office of Agency Services, Farm Credit Administration, 1501 Farm Credit Drive, McLean, VA 22102-5090.

System Manager:

Personnel Security Officer, Office of Agency Services, Farm Credit Administration, 1501 Farm Credit Drive, McLean, VA 22102-5090.

Authority for Maintenance of the System:

12 U.S.C. 2243, 2252; Executive orders 10577, 12968, 13467, 13488, and 13764.

Purposes of the System:

We use information in this system of records to determine suitability for employment and to issue a clearance.

Categories of Individuals Covered by the System:

Current and former FCA employees, individuals who have been extended and accepted formal offers of employment by the Agency, interns, and contractor personnel.

Categories of Records in the System:

This system contains case files compiled during background investigations of employees and contractor personnel in public trust or sensitive positions. It may include: (a) Security forms (e.g., SF 85P, Questionnaire for Public Trust Positions); (b) investigative reports that may include a credit check, police records, and interviews with neighbors, former supervisors, and coworkers; (c) a determination of suitability for employment or for a security clearance by FCA's security officer; and (d) issuance of clearance statement. Certain records included in a case file are considered copies and are primarily owned by DCSA and are accounted for in DoD's “Personnel Vetting Records System,” DUSDI 02-DoD.

Record Source Categories:

Information in this system of records comes from: (a) The individual to whom the record applies; (b) DoD and legacy OPM NBIB investigative files maintained by the DCSA; (c) employment information maintained by the FCA; and (d) external and internal investigative inquiries by Federal law enforcement agencies.

Routine Uses of Records Maintained in the System, Including Categories of Users and Purposes of Such Uses:

See the “General Statement of Routine Uses” (64 FR 8175). Disclosure to consumer reporting agencies:

None.

Policies and Practices for Storage of Records:

Records are maintained in files folders and electronically in a computerized database.

Policies and Practices for Retrieval of Records:

Records are retrieved by name, Social Security number, or some combination thereof.

Policies and Procedures for Retention and Disposal of Records:

Records are retained in accordance with the National Archives and Records Administration's General Records Schedule requirements, and with the FCA Comprehensive Records Schedule.

Administrative, Technical, and Physical Safeguards:

FCA implements multiple layers of security to ensure access to records is limited to those with a need-to-know in support of their official duties. Records are physically safeguarded in a secured environment using locked file rooms, file cabinets, or locked offices and other physical safeguards. Computerized records are safeguarded through use of user roles, passwords, firewalls, encryption, and other information technology security measures. Only the Personnel Security Officer and Alternate Personnel Security Officer have access to the records.

Record Access Procedures:

To obtain a record, contact: Privacy Act Officer, Farm Credit Administration, 1501 Farm Credit Drive, McLean, VA 22102-5090, as provided in 12 CFR part 603.

Contesting Record Procedures:

Direct requests for amendments to a record to: Privacy Act Officer, Farm Credit Administration, 1501 Farm Credit Drive, McLean, VA 22102-5090, as provided in 12 CFR part 603.

Notification Procedure:

Address inquiries about this system of records to: Privacy Act Officer, Farm Credit Administration, McLean, VA 22102-5090.

Exemptions Promulgated for the System:

Information in this system of records about a confidential source's identity is subject to a specific exemption, 5 U.S.C. 552a(k)(5), to ensure accurate information on employment suitability.

History:

Federal Register Vol. 64, No. 100/Tuesday, May 25, 1999 page 21875

Vol. 70, No. 183/Thursday, September 22, 2005, page 55621

Dated: July 28, 2020.
Dale Aultman,
Secretary, Farm Credit Administration Board.

[FR Doc. 2020-16698 Filed 7-31-20; 8:45 am]

BILLING CODE 6705-01-P